NUCLEAR REGULATORY COMMISSION

Receipt of Request for Action Under 10 CFR 2.206

Notice is hereby given that by petition dated March 11, 2002, and supplements dated March 21, 22, and 27, 2002, Mr. David A. Lochbaum, Nuclear Safety Engineer in the Washington, DC, Office of the Union of Concerned Scientists (petitioner), and the co-petitioners identified in the petition supplements dated March 21 and March 22, 2002, have requested that the U.S. Nuclear Regulatory Commission (NRC or the Commission) take action with regard to the nuclear power facilities listed in Attachment 1 to the petition (multiple facilities). The petitioners request that the NRC immediately issue orders to the owners of all operating nuclear power plants to take measures that will reduce the risk from sabotage of irradiated fuel. Specifically, those measures are:

(1) The NRC should “impose a 72-hour limit for operation when the number of operable onsite alternating current power sources (i.e., emergency diesel generators) is one less than the number in the Technical Specification limiting condition for operation. This 72-hour limit would be applicable when the nuclear plant is in any mode of operation other than hot shutdown, cold shutdown, refueling, or defueled.” Oconee Nuclear Station does not rely on emergency diesel generators but “equivalent protection for its emergency power supply” should be provided. The NRC should also “cease and desist issuing NOEDs [Notices of Enforcement Discretion] that allow nuclear reactors to operate for longer periods of time with broken emergency diesel generators.” This requested action would apply to the facilities listed in Attachment 1 to the petition.

(2) The NRC should “impose a minimum 24-hour time-to-boil for the spent fuel pool water. This limit would be applicable at all times.” This requested action would apply to the facilities listed in Attachment 1 to the petition.

The petition also requested that the NRC hold a public meeting to precede “the Petition Review Board (PRB) non-public meeting regarding this petition” and assign “someone other than the Director of NRR [Office of Nuclear Reactor Regulation] to be responsible for our petition. The Deputy Executive Director for Reactor Programs or the Deputy Director of NRR would be acceptable to UCS [Union of Concerned Scientists].”

The request is being treated pursuant to 10 CFR 2.206 of the Commission's regulations. The request has been referred to the Director, NRR. As provided by Section 10 CFR 2.206, appropriate action will be taken on this petition within a reasonable time. On March 26, 2002, the petitioner participated in a teleconference with the PRB to discuss the petition, as supplemented. The PRB considered the petitioner's contributions to the teleconference in deciding on the requests for immediate action and in setting the schedule for review of the petition. A copy of the petition and its supplements is available for inspection at the Commission's Public Document Room (PDR), at One White Flint North, 11555 Rockville Pike (first floor), Rockville, Maryland. Publicly available records will be accessible from the Agencywide Documents Access and Management System (ADAMS) Public Electronic Reading Room on the Internet at the NRC Web site, http://www.nrc.gov/reading-rm/adams.html. Persons who do not have access to ADAMS or who have problems in accessing the documents in ADAMS, should contact the NRC PDR Reference staff by telephone at 1-800-397-4209 or 301-415-4737 or by e-mail to pdr@nrc.gov.

Dated at Rockville, Maryland, this 8th day of May 2002.
For the Nuclear Regulatory Commission.
Samuel J. Collins,
Director, Office of Nuclear Reactor Regulation.

[FR Doc. 02-12125 Filed 5-14-02; 8:45 am]

BILLING CODE 7590-01-P